FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel-Operating Common Carrier Ocean Transportation Intermediary Applicants:

L.C.L. Ocean Services, Inc., 1534e N.W. 33rd Place, Opa-Locka, FL 33054. Officer: Ingimar O. Petursson, President (Qualifying Individual).

Global Partner Logistics, Inc., 31 7th Street, Cresskill, NJ 07626. Officers: Kwang Y. Ahn, Secretary (Qualifying Individual), Jong S. Park, President.

N.C. Shipping, Inc., 2661 Pine Street, Rosemead, CA 91776. Officer: Nick Vuong, President (Qualifying Individual).

Windsur Int'l Inc., 2399 Tifal Avenue, Irwindale, CA 91010. Officers: Mei Ying Li, CEO (Qualifying Individual), Ling Ji, President.

Non-Vessel-Operating Common Carrier and Ocean Freight Forwarder Transportation Intermediary Applicants:

American Cruise-Aid Logistics, Inc., 405 Atlantis Road, Suite A, Cape Canaveral, FL 32920. Officer: Janne Meinertz, President (Qualifying Individual).

Go Events Management, Inc., 36 Seabring Street, Brooklyn, NY 11231. Officers: Albert Gonzalez, Vice President (Qualifying Individual), Vincent Malerba, President.

LE International Inc., 1928 Tyler Avenue, Unit #K, S. El Monte, CA 91733. Officers: Emmy Ching, President (Qualifying Individual), Linda T. Nguyen, Secretary.

North American International N.A., Inc., 700 Oakmont Lane, Westmont, IL 60559. Officers: Donald J. Krengiel, Asst. Secretary (Qualifying Individual), Michael B. McMahon, President.

TranLogistics, LLC, 2801 NW 74th Avenue, Suite 100, Miami, FL 33122. Officers: Lily Tran, President (Qualifying Individual), Jeff Nouhan, Exec. Vice President.

Ocean Freight Forwarder—Ocean Transportation Intermediary Applicants:

AGLO Inc., 4709 N.W. 72nd Avenue, Miami, FL 33166. Officers: Daisy Montesano, Vice President (Qualifying Individual), Jorge L. Montesano, President.

APL Logistics Hong Kong, Limited, 1111 Broadway, Oakland, CA 94607. Officers: Paul J. Gibbs, Dir. of Operations (Qualifying Individual), Hans M. Hickler, Director.

Dated: November 5, 2004.
Bryant L. VanBrakle,
Secretary.

[FR Doc. 04-25114 Filed 11-9-04; 8:45 am]

BILLING CODE 6730-01-P